DEPARTMENT OF TRANSPORTATION

Maritime Administration

[Docket No. MARAD-2018-0098]

Request for Comments of a Previously Approved Information Collection: Application for Conveyance of Port Facility Property

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published in the Federal Register on April 11, 2018 (Volume 83, Number 70; Page 15668).

DATES: Comments must be submitted on or before July 18, 2018.

ADDRESSES: Send comments regarding the burden estimate, including suggestions for reducing the burden, to the Office of Management and Budget, Attention: Desk Officer for the Office of the Secretary of Transportation, 725 17th Street NW, Washington, DC 20503.

FOR FURTHER INFORMATION CONTACT: Mr. Linden Houston, Maritime Administration, 1200 New Jersey Avenue SE, W21-203, Washington, DC 20590. Telephone: 202-366-4839; or email Linden.Houston@dot.gov.

SUPPLEMENTARY INFORMATION:

Title: Application for Conveyance of Port Facility Property, formerly, Port Facility Conveyance Information.

OMB Control Number: 2133-0524.

Type of Request: Renewal of a Previously Approved Information Collection.

Abstract: Public Law 103-160, which is included in 40 U.S.C. 554 authorizes the Department of Transportation to convey to public entities surplus Federal property needed for the development or operation of a port facility. The information collection will allow MARAD to approve the conveyance of property and administer the port facility conveyance program.

Affected Public: Eligible state and local public entities.

Estimated Number of Respondents: 13.

Estimated Number of Responses: 13.

Annual Estimated Total Annual Burden Hours: 572.

Frequency of Response: Annually.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

* * * * *

By Order of the Maritime Administrator.
Dated: June 13, 2018.
T. Mitchell Hudson, Jr.,
Secretary, Maritime Administration.

[FR Doc. 2018-12993 Filed 6-15-18; 8:45 am]

BILLING CODE 4910-81-P